DEPARTMENT OF THE INTERIOR

National Park Service

[NPS-WASO-NAGPRA-NPS0034237; PPWOCRADN0-PCU00RP14.R50000]

Notice of Inventory Completion: University of California, Berkeley, Berkeley, CA

AGENCY: National Park Service, Interior.

ACTION: Notice.

SUMMARY: The University of California, Berkeley has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the University of California, Berkeley. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the University of California, Berkeley at the address in this notice by August 22, 2022.

FOR FURTHER INFORMATION CONTACT: Thomas Torma, University of California, Berkeley; 50 University Hall, 2199 Addison Street, Berkeley, CA 94720, telephone (510) 672-5388, email t.torma@berkeley.edu.

SUPPLEMENTARY INFORMATION: Notice is here given in accordance with the Native American Graves Protection and Repatriation Act (NAGPRA), 25 U.S.C. 3003, of the completion of an inventory of human remains and associated funerary objects under the control of the University of California, Berkeley; Berkeley, CA. The human remains and associated funerary objects were removed from Marin County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of California, Berkeley professional staff in consultation with representatives of the Federated Indians of Graton Rancheria, California, and the Guidiville Rancheria of California.

History and Description of the Remains

Beginning in 1868, human remains representing, at minimum, 497 individuals were removed from multiple identified sites in Marin County, CA, including CA-Mrn-10, CA-Mrn-123, CA-Mrn-139, CA-Mrn-163, CA-Mrn-164, CA-Mrn-165, CA-Mrn-168, CA-Mrn-17, CA-Mrn-201, CA-Mrn-209, CA-Mrn-232, CA-Mrn-242, CA-Mrn-26, CA-Mrn-266, CA-Mrn-271, CA-Mrn-275, CA-Mrn-280, CA-Mrn-3, CA-Mrn-301, CA-Mrn-302, CA-Mrn-307, CA-Mrn-315, CA-Mrn-34, CA-Mrn-342, CA-Mrn-345, CA-Mrn-35, CA-Mrn-353, CA-Mrn-39, CA-Mrn-65, CA-Mrn-7, CA-Mrn-76, CA-Mrn-92, as well as 14 unidentified sites in Marin County. These collections comprise 72 separate accessions.

No known individuals were identified. The 49 associated funerary objects are one lot of awls and awl fragments, one lot of baked clay and clay objects, one lot of beads and bead fragments, one lot of beads and bone, one lot of bottles and bottle fragments, one lot of buttons, one lot of ceramics and fragments, one lot of chamstone and charmstone fragments, one lot of charred faunal remains, one lot of crockery fragments, one lot of crystal, one lot of currency, one lot of faunal remains, one lot of faunal remains and artifacts, one lot of figurine, one lot of fishing tools, one lot of glass objects and fragments, one lot of grindstones, one lot of handles, one lot of head scratchers, one lot of implements, one lot of iron fragments, one lot of metal tools and objects, one lot of midden sample, one lot of mixed faunal remains, one lot of mixed faunal, shell, and plant matter, one lot of mortars and pestles, one lot of ornament, one lot of paint, one lot of pencil, one lot of pendants, amulets, and bangles, one lot of picks, one lot of pipes and pipe fragments, one lot of plant matter, one lot of plant matter and soil samples, one lot of refuse, one lot of refuse samples, one lot of scrapers and scraper fragments, one lot of shell and shell fragments, one lot of soil samples, one lot of stones, one lot of textiles, one lot of tubes and tube fragments, one lot of unknown objects, one lot of whistles and whistle fragments, one lot of wood, one lot of worked bones, bone tools and objects, one lot of worked shell objects, and one lot of worked stone and stone tools/objects.

Since time immemorial, Marin County, CA, has been the ancestral territory of the Coast Miwok, among whom are the Federated Indians of Graton Rancheria. Based on geographical, kinship, archeological, linguistic, folkloric, oral traditional, and historical information, the Federated Indians of Graton Rancheria, California are culturally affiliated with the human remains and associated funerary objects listed in this notice.

Determinations Made by the University of California, Berkeley

Officials of the University of California, Berkeley have determined that:

• Pursuant to 25 U.S.C. 3001(9), the human remains described in this notice represent the physical remains of 497 individuals of Native American ancestry.

• Pursuant to 25 U.S.C. 3001(3)(A), the 49 objects described in this notice are reasonably believed to have been placed with or near individual human remains at the time of death or later as part of the death rite or ceremony.

• Pursuant to 25 U.S.C. 3001(2), there is a relationship of shared group identity that can be reasonably traced between the Native American human remains and associated funerary objects and the Federated Indians of Graton Rancheria, California.

Additional Requestors and Disposition

Lineal descendants or representatives of any Indian Tribe or Native Hawaiian organization not identified in this notice that wish to request transfer of control of these human remains and associated funerary objects should submit a written request with information in support of the request to Thomas Torma, University of California, Berkeley; 50 University Hall, 2199 Addison Street, Berkeley, CA 94720, telephone (510) 672-5388, email t.torma@berkeley.edu, by August 22, 2022. After that date, if no additional requestors have come forward, transfer of control of the human remains and associated funerary objects to the Federated Indians of Graton Rancheria, California may proceed.

The University of California, Berkeley is responsible for notifying the Federated Indians of Graton Rancheria, California, and the Guidiville Rancheria of California that this notice has been published.

Dated: July 13, 2022.
Melanie O'Brien,
Manager, National NAGPRA Program.

[FR Doc. 2022-15552 Filed 7-20-22; 8:45 am]

BILLING CODE 4312-52-P